DEPARTMENT OF THE INTERIOR

Bureau of Land Management

[LLWO600000.12X.L18200000.XH0000]

Proposed Information Collection; Request for Comments

AGENCY: Bureau of Land Management, Interior.

ACTION: 30-day Notice and Request for Comments.

SUMMARY: The Bureau of Land Management (BLM) has submitted an information collection request to the Office of Management and Budget (OMB) to approve a new control number for applications for membership in federal advisory committees.

DATES: The OMB is required to respond to this information collection request within 60 days but may respond after 30 days. For maximum consideration, written comments should be received on or before October 29, 2012.

ADDRESSES: Please submit comments directly to the Desk Officer for the Department of the Interior (OMB #1004-XXXX), Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-XXXX” regardless of the form of your comments.

FOR FURTHER INFORMATION CONTACT: Allison Sandoval, at 202-208-4294. Persons who use a telecommunication device for the deaf (TDD) may call the Federal Information Relay Service (FIRS) at 1-800-877-8339, to leave a message for Ms. Sandoval. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on December 28, 2011 (76 FR 81523), and the comment period ended February 27, 2012. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-XXXX in your correspondence. Before including your address, phone number, email address, or other personal identifying information in your comment, you should be aware that your entire comment—including your personal identifying information—may be made publicly available at any time. While you can ask us in your comment to withhold your personal identifying information from public review, we cannot guarantee that we will be able to do so.

Title: Bureau of Land Management Resource Advisory Council Application (43 CFR Subpart 1784).

Form: Bureau of Land Management Resource Advisory Council Application.

OMB Control Number: 1004-XXXX.

Abstract: The BLM seeks to collect information to determine education, training, and experience related to possible service on advisory committees established under the authority of Section 309 of the Federal Land Policy and Management Act (43 U.S.C. 1739) and the Federal Advisory Committee Act, 5 U.S.C. App. 2. This information is necessary to ensure that each advisory committee is structured to provide fair membership balance, both geographic and interest-specific, in terms of the functions to be performed and points of view to be represented, as prescribed by its charter.

Frequency of Collection: Once.

Obligation to Respond: Required to obtain or retain benefits.

Estimated Number and Description of Respondents: 200 applicants annually.

Estimated Reporting and Recordkeeping “Hour” Burden: 800 hours annually.

Estimated Reporting and Recordkeeping “Non-Hour Cost” Burden: None.

Jean Sonneman,
Bureau of Land Management, Information Collection Clearance Officer.

[FR Doc. 2012-23908 Filed 9-27-12; 8:45 am]

BILLING CODE 4310-84-P